DEPARTMENT OF ENERGY

Federal Energy Regulatory Commission

[Docket No. CP12-464-000]

Petal Gas Storage, L.L.C., Hattiesburg Industrial Gas Sales, L.L.C.; Notice of Offer of Settlement

Take notice that on November 8, 2012, Petal Gas Storage, L.L.C. (Petal) and Hattiesburg Industrial Gas Sales, L.L.C. (Hattiesburg), filed a Stipulation and Agreement (Settlement), including pro forma tariff records, pursuant to 18 CFR 385.602 (2012) to resolve all issues in the above-captioned docket raised by Consolidated Edison of New York, Inc. (ConEd).

The Stipulation and Agreement is uncontested by all settling parties (Petal, Hattiesburg and ConEd) within the meaning of Rule 602(g). Petal and Hattiesburg have submitted to ConEd a draft service agreement that would govern ConEd's firm storage service under Petal's Rate Schedule FSS. Petal has also agreed as a part of the Settlement to make the tariff filings set forth in Article I of the Stipulation and Agreement to address ConEd's concerns regarding the terms and conditions of Petal's FSS service. Except as specified, each of the tariff filings will be generally applicable to all Petal customers, including former Hattiesburg customers, and are designed to replicate certain aspects of the terms and conditions of the 311 firm storage service offered by Hattiesburg. Petal agrees to submit tariff filing in a compliance filing to the Commission within thirty days of the effective date of this Settlement, all as described more fully in the Settlement filing.

Petal states that it has served copies of this filing on all affected customers and interested state commissions. Pursuant to Rule 602(f)(2) of the Commission's Rules of Practice and Procedure, 18 CFR 385.602(f)(2) (2012), initial comments on the Settlement are due not later than 20 days after the filing of the Settlement, and reply comments are due not later than 30 days after the filing of the Settlement.

The Commission encourages electronic submission interventions and comments in lieu of paper using the “eFiling” link at http://www.ferc.gov. This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comments are due by: November 28, 2012.

Reply Comments are due by: December 8, 2012.

Dated: November 19, 2012.
Kimberly D. Bose,
Secretary.

[FR Doc. 2012-28542 Filed 11-23-12; 8:45 am]

BILLING CODE 6717-01-P